DEPARTMENT OF LABOR

Employment and Training Administration

[TA-W-73,370]

Thomson Reuters Legal, Legal Editorial Operations Cleveland Office Including Workers Whose Unemployment Insurance (UI) Wages Are Paid Through West Services, Inc. and West Publishing Corporation; Independence, OH; Amended Certification Regarding Eligibility To Apply for Worker Adjustment Assistance

In accordance with Section 223 of the Trade Act of 1974, as amended (“Act”), 19 U.S.C. 2273, the Department of Labor issued a Certification of Eligibility to Apply for Worker Adjustment Assistance on June 22, 2010, applicable to workers of Thomson Reuters Legal, Legal Editorial Operations, Cleveland Office, Independence, Ohio. The notice was published in the Federal Register on July 7, 2010 (75 FR 39047). The notice was amended on July 27, 2010 to include workers whose unemployment insurance (UI) are paid through West Services, Inc. The notice will be published soon in the Federal Register.

At the request of the State agency, the Department reviewed the certification for workers of the subject firm. The workers are engaged in activities related to legal information and editorial services.

Information shows that some workers separated from employment at the Independence, Ohio location of Thomson Reuters Legal, Legal Editorial Operations, Cleveland Office had their wages reported under a separated unemployment insurance (UI) tax account under the name West Publishing Corporation, a Thomson Reuters Business.

Accordingly, the Department is amending this certification to properly reflect this matter.

The intent of the Department's certification is to include all workers of the subject firm who were adversely affected by a shift in editorial services to the Philippines and India.

The amended notice applicable to TA-W-73,370 is hereby issued as follows:

“All workers of Thomas Reuters Legal, Legal Editorial Operations, Cleveland Office, including workers whose unemployment insurance (UI) wages are paid through West Services, Inc., and West Publishing Corporation, Independence, Ohio, who became totally or partially separated from employment on or after January 26, 2009 through June 22, 2012, and all workers in the group threatened with total or partial separation from employment on date of certification through two years from the date of certification, are eligible to apply for adjustment assistance under Chapter 2 of Title II of the Trade Act of 1974, as amended.”

Signed at Washington, DC, this 4th day of August 2010.
Elliott S. Kushner,
Certifying Officer, Division of Trade Adjustment Assistance.

[FR Doc. 2010-20032 Filed 8-12-10; 8:45 am]

BILLING CODE 4510-FN-P